DEPARTMENT OF TRANSPORTATION

[Docket No. DOT-MARAD 2014-0097]

Agency Requests for Renewal of a Previously Approved Information Collection(s): Procedures for Determining Vessel Services Categories for Purposes of the Cargo Preference Act

AGENCY: Maritime Administration, DOT.

ACTION: Notice and request for comments

SUMMARY: The Maritime Administration (MARAD) invites public comments about our intention to request the Office of Management and Budget (OMB) approval to renew a previously approved information collection that is summarized below under SUPPLEMENTARY INFORMATION. We are required to publish this notice in the Federal Register by the Paperwork Reduction Act of 1995, Public Law 104-13.

DATES: Written comments should be submitted by September 5, 2014.

ADDRESSES: You may submit comments [identified by Docket No. DOT-MARAD-2014-0097] through one of the following methods:

• Federal eRulemaking Portal: http://www.regulations.gov. Follow the online instructions for submitting comments.

• Fax: 1-202-493-2251

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Dennis Brennan, 202-366-1029, Office of Cargo and Commercial Sealift, Maritime Administration, U.S. Department of Transportation, 1200 New Jersey, Avenue SE., Washington, DC 20590.

SUPPLEMENTARY INFORMATION: OMB Control Number: 2133-0540.

Title: Procedures for Determining Vessel Services Categories for Purposes of the Cargo Preference Act.

Form Numbers: None.

Type of Review: Renewal of an information collection.

Background: The purpose is to provide information to be used in the designation of service categories of individual vessels for purposes of compliance with the Cargo Preference Act under a Memorandum of Understanding entered into by the U.S. Department of Agriculture, U.S. Agency for International Development, and the Maritime Administration. MARAD will use the data submitted by vessel operators to create a list of Vessel Self-Designations and determine whether MARAD agrees or disagrees with a vessel owner's designation of a vessel.

Respondents: Owners or operators of U.S.-registered vessels and foreign-registered vessels.

Number of Respondents: 100.

Frequency: Annually.

Number of Responses: 100.

Total Annual Burden: 800 Hours/8 hours per Respondent.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1.93.

Dated: June 30, 2014.
Christine Gurland,
Acting Secretary, Maritime Administration.

[FR Doc. 2014-15750 Filed 7-3-14; 8:45 am]

BILLING CODE 4910-81-P